DEPARTMENT OF THE INTERIOR

National Park Service

[NPS-WASO-NAGPRA-10227; 2200-1100-665]

Notice of Inventory Completion: U.S. Department of the Interior, Indian Arts and Crafts Board, Museum of the Plains Indian, Browning, MT

AGENCY: National Park Service, Interior.

ACTION: Notice.

SUMMARY: The Museum of the Plains Indian, Indian Arts and Crafts Board, has completed an inventory of human remains, in consultation with the appropriate Indian tribes, and has determined that there is no cultural affiliation between the remains and any present-day Indian tribe. Representatives of any Indian tribe that believes itself to be culturally affiliated with the human remains may contact the Museum of the Plains Indian, Indian Arts and Crafts Board. Disposition of the human remains to the Indian tribes stated below may occur if no additional requestors come forward.

DATES: Representatives of any Indian tribe that believes it has a cultural affiliation with the human remains should contact the Museum of the Plains Indian, Indian Arts and Crafts Board at the address below by July 5, 2012.

ADDRESSES: David Dragonfly, Museum Technician, Museum of the Plains Indian, P.O. Box 410, Browning, MT 59417, telephone (406) 338-2230.

SUPPLEMENTARY INFORMATION: Notice is here given in accordance with the Native American Graves Protection and Repatriation Act (NAGPRA), 25 U.S.C. 3003, of the completion of an inventory of human remains in the possession of the Museum of the Plains Indian. The human remains were removed from an unknown location.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Indian Arts and Crafts Board's professional staff in consultation with representatives of the Assiniboine and Sioux Tribes of the Fort Peck Indian Reservation, Montana; Blackfeet Tribe of the Blackfeet Indian Reservation of Montana; Cheyenne River Sioux Tribe of the Cheyenne River Reservation, South Dakota; Chippewa-Cree Indians of the Rocky Boy's Reservation, Montana; Confederated Salish & Kootenai Tribes of the Flathead Reservation, Montana; Coeur D'Alene Tribe of the Coeur D'Alene Reservation, Idaho; Crow Tribe of Montana; Crow Creek Sioux Tribe of the Crow Creek Reservation, South Dakota; Fort Belknap Indian Community of the Fort Belknap Reservation of Montana; Kalispel Indian Community of the Kalispel Reservation, Washington; Lower Brule Sioux Tribe of the Lower Brule Reservation, South Dakota; Nez Perce Tribe, Idaho (previously listed as Nez Perce Tribe of Idaho); Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Shoshone Tribe of the Wind River Reservation, Wyoming; Shoshone-Bannock Tribes of the Fort Hall Reservation of Idaho; Standing Rock Sioux Tribe of North & South Dakota; and the Three Affiliated Tribes of the Fort Berthold Reservation, North Dakota (hereinafter referred to as “The Tribes”).

History and Description of the Remains

At an unknown date, human remains representing, at minimum, one individual were removed from an unknown location and through testing, were determined to be the remains of Native American ancestry. The human remains, a scalp lock attached to a lance, were likely acquired from Mrs. Madge Hardin Walters of San Diego, CA, by Mr. Earl Horter of Philadelphia, PA, and subsequently sold to the Bureau of Indian Affairs by Ms. Elizabeth Lentz Horter. The Bureau of Indian Affairs purchased these items in 1941 for its Museum of the Plains Indian. The Museum of the Plains Indian was transferred to the Indian Arts and Crafts Board in 1965. No known individuals were identified. No associated funerary objects are present.

Determinations Made by the Indian Arts and Crafts Board

Officials of the Indian Arts and Crafts Board have determined that:

• Based on the results of laboratory testing, the human remains are consistent with Native American origin.

• Pursuant to 25 U.S.C. 3001(2), a relationship of shared group identity cannot be reasonably traced between the Native American human remains and any present-day Indian tribe.

• Pursuant to 25 U.S.C. 3001(9), the human remains described in this notice represent the physical remains of one individual of Native American ancestry.

Additional Requestors and Disposition

Representatives of any Indian tribe that believes itself to be culturally affiliated with the human remains or any other Indian tribe that believes it satisfies the criteria in 43 CFR 10.11(c)(1) should contact David Dragonfly, Museum of the Plains Indian, P.O. Box 410, Browning, MT 59417, telephone (406) 338-2230, before July 5, 2012. Disposition of the human remains to The Tribes may proceed after that date if no additional requestors come forward.

The Indian Arts and Crafts Board is responsible for notifying The Tribes that this notice has been published.

Dated: May 30, 2012.
Sherry Hutt,
Manager, National NAGPRA Program.

[FR Doc. 2012-13462 Filed 6-1-12; 8:45 am]

BILLING CODE 4312-50-P